DEPARTMENT OF DEFENSE

Office of the Secretary

Defense Health Board; Notice of Federal Advisory Committee Meeting

AGENCY: Under Secretary of Defense for Personnel and Readiness, Defense Health Board, Department of Defense.

ACTION: Notice of Federal Advisory Committee Meeting.

SUMMARY: The Department of Defense (DoD) is publishing this notice to announce that the following Federal Advisory Committee meeting of the Defense Health Board will take place.

DATES: Open to the public Thursday, July 11, 2019 from 9:00 a.m. to 11:00 a.m.

ADDRESSES: The address of the open meeting is Gatehouse, 8111 Gatehouse Road, Room 345, Falls Church, Virginia 22042 (registration required; see guidance in SUPPLEMENTARY INFORMATION, “Meeting Accessibility.”).

FOR FURTHER INFORMATION CONTACT: Captain Gregory Gorman, Medical Corps, U.S. Navy, (703) 275-6060 (Voice), (703) 275-6064 (Facsimile), gregory.h.gorman.mil@mail.mil (Email). Mailing address is 7700 Arlington Boulevard, Suite 5101, Falls Church, Virginia 22042. Website: http://www.health.mil/dhb. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: A copy of the agenda or any updates to the agenda for the July 11, 2019 meeting, as well as any other materials presented in the meeting, may be obtained at the meeting.

Purpose of the Meeting: The DHB provides independent advice and recommendations to maximize the safety and quality of, as well as access to, health care for DoD health care beneficiaries. A work group of DHB members (“group”) is examining opportunities to improve the efforts within the Military Health System (MHS) to provide support to prevent, detect, assess, and treat child abuse and neglect occurring in military families. The purpose of the meeting is to receive public comments concerning child abuse and neglect within the spectrum of family violence. Comments from the public can range from insight on child maltreatment-related health issues to personal accounts and objective input, focusing on the following:

• Feedback on mechanisms to advocate treatment options in health care settings that address potential factors for increased risk of child abuse and neglect (i.e., mental health or relationship counseling, nonclinical counseling such as provided by Military OneSource, referral to programs focusing on socioeconomic factors such as food insecurity, etc.).

• Assessment of how child abuse and neglect victims are identified and treated in the military health care setting, with a focus on consistency within treatment protocols; record keeping; standardized treatments and protocols; medical and mental health treatment programs; and processes to connect victims to appropriate support programs within the MHS or civilian sector, and if there is an overlap.

• Review of existing support programs for victims of child abuse and neglect in the MHS, as well as the continuity of care coordination with medical and social services to strengthen the interface between medical and non-medical communities (military and civilian).

Agenda: After a brief introduction of the review, the group will receive public comments on child abuse and neglect within the spectrum of family violence. The DHB Designated Federal Officer (DFO), in consultation with the group leader, will allot time for members of the public to present their issues for review and discussion, restricting speaking time to 3-5 minutes per person. Members of the public must sign up to speak (see guidance in SUPPLEMENTARY INFORMATION, “Oral Statements”).

Meeting Accessibility: Pursuant to 5 U.S.C. 552b and 41 CFR 102-3.140 through 102-3.165 and subject to availability of space, this meeting is open to the public from 9:00 a.m. to 11 a.m. on July 11, 2019. Seating is limited and is on a first-come basis. All members of the public who wish to attend the public meeting must register by emailing their name, rank/title, and organization/company to dha.ncr.dhb.mbx.defense-health-board@mail.mil or by contacting Ms. Theresa Fassig Normil at (703) 275-6012 no later than 12:00 p.m. on July 8, 2019. Special Accommodations: Individuals requiring special accommodations to access the public meeting should contact Ms. Theresa Fassig Normil at least five (5) business days prior to the meeting so that appropriate arrangements can be made.

Written Statements: Any member of the public wishing to provide comments to the DHB related to the Healthy Military Family Systems: Examining Child Abuse and Neglect tasking may do so in accordance with section 10(a)(3) of the Federal Advisory Committee Act, 41 CFR 102-3.105(j) and 102-3.140, and the procedures described in this notice. Written statements may be submitted to the DHB DFO, CAPT Gregory Gorman, at gregory.h.gorman.mil@mail.mil. Written statements should not be longer than two type-written pages and include the issue, a short discussion, and a recommended course of action. Supporting documentation may also be included, to establish the appropriate historical context and to provide any necessary background information. If the written statement is not received at least five (5) business days prior to the meeting, the DFO may choose to postpone consideration of the statement until the next open meeting. The DFO will review all timely submissions with the group leader and ensure they are provided to members of the group before the meeting that is subject to this notice. Oral Statements: Members of the public must sign up to speak by contacting Ms. Theresa Fassig Normil at (703) 275-6012 or Theresa.m.fassignormil.ctr@mail.mil or by signing up at the reception table at the meeting. Public comments will be received by the group in order of sign-up and within the time limits of the meeting. Those who provide public comment are strongly encouraged to also provide written statements to support their comments (see guidance in “Written Statements” section).

Dated: June 19, 2019.
Shelly E. Finke,
Alternate OSD Federal Register Liaison Officer, Department of Defense.

[FR Doc. 2019-13386 Filed 6-21-19; 8:45 am]

BILLING CODE 5001-06-P